DEPARTMENT OF HEALTH AND HUMAN SERVICES

Centers for Medicare & Medicaid Services

42 CFR Parts 410, 414, 488, and 493

[CMS-3368-CN]

RIN 0938-AT83

Medicare Program; Accrediting Organizations—Changes of Ownership; Correction

AGENCY: Centers for Medicare & Medicaid Services (CMS), HHS.

ACTION: Final rule; correction.

SUMMARY: This document corrects technical errors that appeared in the final rule published in the Federal Register on April 29, 2022 entitled “Accrediting Organizations—Changes of Ownership.”

DATES: This correction is effective June 28, 2022.

FOR FURTHER INFORMATION CONTACT: Caroline Gallaher, (410) 786-8705.

SUPPLEMENTARY INFORMATION:

I. Background

In FR Doc. 2022-09102 of April 29, 2022 (87 FR 25413), there were technical errors that are identified and corrected in this correcting document. The provisions in this correction document are effective as if they had been included in the document published April 29, 2022. Accordingly, the correction is effective June 28, 2022.

II. Summary of Errors

On page 25422 in the second column, first full paragraph, and page 25423, in the second column, under Section IV, the third bulleted paragraph, we inadvertently cited § 488.5(f)(10) instead of § 488.5(a)(10). We are deleting the regulatory citation “§ 488.5(f)(10)” and replacing it with “§ 488.5(a)(10).”

On page 25423, in the second column, under Section IV, the third bulleted paragraph, we inadvertently omitted language indicating our withdrawal of the proposal to apply the terms of § 488.5(f)(10) to clinical laboratories because an already-existing regulatory provision at 42 CFR 493.575(g) addresses the same subject matter.

On page 25427, in the third column, last line, we inadvertently referred to § 488.5(f)(10) instead of § 488.5(a)(10). We are therefore deleting the reference to paragraph “(f)(10)” and replacing it with paragraph “(a)(10).”

On page 25428, in the third full paragraph of the third column, we inadvertently retained “clinical laboratories” in 42 CFR 488.5(f)(10). Therefore, as noted above, we are deleting the reference to clinical laboratories.

III. Waiver of Proposed Rulemaking

We ordinarily publish a notice of proposed rulemaking in the Federal Register to provide a period for public comment before the provisions of a rule take effect in accordance with section 553(b) of the Administrative Procedure Act (APA) (5 U.S.C. 553(b)). However, we can waive this notice and comment procedure if the Secretary finds, for good cause, that the notice and comment process is impracticable, unnecessary, or contrary to the public interest, and incorporates a statement of the finding and the reasons therefore in the notice.

Section 553(d) of the APA ordinarily requires a 30-day delay in effective date of final rules after the date of their publication in the Federal Register. This 30-day delay in effective date can be waived; however, if an agency finds for good cause that the delay is impracticable, unnecessary, or contrary to the public interest, and the agency incorporates a statement of the findings and its reasons in the rule issued.

We believe that this correcting document does not constitute a rule that is subject to the notice and comment or delayed effective date requirements. This document corrects an inadvertent language retention that we intended to delete. Existing regulations at § 493.575(g) set forth steps for laboratories to follow to maintain their accreditation status if CMS approval of their Accrediting Organizations has been involuntarily terminated.

IV. Correction of Errors

In FR Doc. 2022-09102 of April 29, 2022 (87 FR 25413), make the following corrections:

• On page 25422 in the second column, first full paragraph, 11th line, remove “§ 488.5(f)(10)” and add in its place “§ 488.5(a)(10)”.

• On page 25423, in the second column, under Section IV, third bulleted paragraph, 9th line, remove “§ 488.5(f)(10)” and add in its place “§ 488.5(a)(10)”.

• On page 25423, in the second column, under Section IV, add the following fourth bulleted paragraph:

“Revised § 488.5(f)(10) to withdraw the reference to “clinical laboratories” because the policy for laboratories is already set out at 42 CFR 493.575(g).”.

§ 488.5 [Corrected]

1. On page 25427, in third column, in § 488.5(f)(2)(iii)(D), remove “(f)(10)” and add in its place “(a)(10)”.

2. On page 25428, in the third column, in § 488.5(f)(10) introductory text, remove the words “suppliers; Diabetic Self-Management Training (DSMT) entities; or clinical laboratories,” and add in their place “suppliers; or Diabetic Self-Management Training (DSMT) entities,”.

Wilma M. Robinson,
Deputy Executive Secretary to the Department, Department of Health and Human Services.

[FR Doc. 2022-13052 Filed 6-16-22; 8:45 am]

BILLING CODE 4120-01-P